TENNESSEE VALLEY AUTHORITY

Charter Renewal of the Regional Energy Resource Council

AGENCY: Tennessee Valley Authority (TVA).

ACTION: Renewal of Federal Advisory Committee.

SUMMARY: Pursuant to the Federal Advisory Committee Act (FACA), the TVA Board of Directors has renewed the Regional Energy Resource Council (RERC) charter for an additional two-year period beginning on July 30, 2021.

FOR FURTHER INFORMATION CONTACT: Cathy Coffey, 865-632-4494, ccoffey@tva.gov.

SUPPLEMENTARY INFORMATION: Pursuant to FACA and its implementing regulations, and following consultation with the Committee Management Secretariat, General Services Administration (GSA) in accordance with 41 CFR 102-3.60(a), notice is hereby given that the RERC has been renewed for a two-year period beginning July 30, 2021. The RERC will provide advice to TVA on its issues affecting energy resource activities. The RERC was originally established in 2013 to advise TVA on its energy resource activities and the priority to be placed among competing objectives and values. It has been determined that the RERC continues to be needed to provide an additional mechanism for public input regarding energy resource issues. Additionally, we would like to correct the error in the Summary section of the April 28, 2020, Regional Resource Stewardship Council renewal notice published in the Federal Register that misidentified the council as the Regional Energy Resource Council.

Dated: August 26, 2021.
The DFO of the Tennessee Valley Authority and Vice President of External Strategy & Regulatory Affairs, Melanie Farrell, having reviewed and approved this document, is delegating the authority to sign this document to Cathy Coffey, Senior Program Manager of Stakeholder Relations, for purposes of publication in the Federal Register.
Cathy Coffey,
Senior Program Manager, Tennessee Valley Authority.

[FR Doc. 2021-18867 Filed 8-31-21; 8:45 am]

BILLING CODE 8120-08-P